DEPARTMENT OF DEFENSE

Department of the Army, Corps of Engineers

Grant of General Availability of Exclusive, or Partially Exclusive Licenses

AGENCY: U.S. Army Corps of Engineers.

ACTION: Notice.

SUMMARY: The Department of the Army, U.S. Army Corps of Engineers, announces the general availability of exclusive, or partially exclusive licenses under U.S. Patent application serial number 09/178,503, filed October 26, 1998 entitled Telescoping Weir. Any license granted shall comply with 35 U.S.C. 209 and 37 CFR part 404.

DATE: Applications for an exclusive, partially exclusive license must be submitted on or before April 28, 2000.

ADDRESSES: United States Army Engineer Research and Development Center, Waterways Experiment Station, ATTN: CEERD-FV-T (Mr. Phillip Stewart), 3909 Halls Ferry Road, Vicksburg, MS 39180-6199.

FOR FURTHER INFORMATION CONTACT: Mr. Phillip Stewart, ATTN: CEERD-OP-Z, (601) 634-4113, FAX (601) 634-4180, Internet phillip.stewart@erdc.usace.army.mil or, for technical information, Mr. Norman R. Francingues, ATTN: CEERD-E-P, (601) 634-3703, FAX (601) 634-4263, Internet francin@wes.army.mil; Environmental Laboratory, U.S. Army Engineer Research and Development Center, 3909 Halls Ferry Road, Vicksburg, MS 39180-6199.

SUPPLEMENTARY INFORMATION: This invention regulates the release of discharge water from dredged material containment sites through the use of a circular weir. It selectively releases only the relatively clean water while leaving behind the contaminated portion. The weir includes a foundation that is anchored to the bottom of the body of water and connected with a discharge pipe, a cylindrical telescoping portion connected with the discharge pipe and extending upwardly from the foundation and terminating adjacent to the surface of the body of water, and a set of mechanical screw jacks for selectively extending and retracting the upper end of the telescoping portion above and below the water surface in order to selectively drain a top layer of clean decant water therefrom.

Each interested party is requested to submit an application for an exclusive or partially exclusive license within 60 days of publication of this notice in the Federal Register. The applications will be evaluated using the following criteria:

1. Demonstrated ability to manufacture and/or market the patented technology.

2. Presentation of applicant's plan to manufacture and/or market products/system based on the patented technology.

3. Time required to bring the item to market.

4. License fee and/or royalty payment offered.

Richard L. Frenette,
Counsel.

[FR Doc. 00-4644 Filed 2-25-00; 8:45 am]

BILLING CODE 3710-92-M